DEPARTMENT OF ENERGY

Federal Energy Regulatory Commission

Combined Notice of Filings #1

March 3, 2006.

Take notice that the Commission received the following electric rate filings.

Docket Numbers: ER01-1071-008; ER03-34-007; ER03-1104-004; ER03-1105-004; ER98-2076-011; ER98-4222-007.

Applicants: Badger Windpower LLC; FPL Windpower, LLC; FPL Energy Hancock County Wind, LLC; FPL Energy North Dakota Wind, LLC; FPL Energy North Dakota Wind II, LLC; Hawkeye Power Partners, LLC; Lake Benton Power Partners II, LLC.

Description: Badger Windpower, LLC et al notify FERC of a change in material fact regarding their market based rate authorization.

Filed Date: February 21, 2006.

Accession Number: 20060223-0048.

Comment Date: 5 p.m. Eastern Time on Tuesday, March 14, 2006.

Docket Numbers: ER01-2814-002.

Applicants: Citizens Energy Corporation.

Description: Citizens Energy Corp submits its Triennial Market Power Analysis and Revisions to Market Based Rate Tariff.

Filed Date: February 21, 2006.

Accession Number: 20060301-0389.

Comment Date: 5 p.m. Eastern Time on Tuesday, March 14, 2006.

Docket Numbers: ER02-2458-008.

Applicants: Midwest Independent Transmission System Operator, Inc.

Description: Midwest Independent Transmission System Operator Inc submits proposed revisions to Schedules 7, 8, and 9 of its Open Access Transmission and Energy Markets Tariff, FERC Electric Tariff, Volume No. 1.

Filed Date: February 21, 2006.

Accession Number: 20060301-0388.

Comment Date: 5 p.m. Eastern Time on Tuesday, March 14, 2006.

Docket Numbers: ER05-763-003; ER05-1154-003.

Applicants: Southern California Edison Company.

Description: Southern California Edison Company's Compliance Report on Refunds Pursuant to Settlement.

Filed Date: February 21, 2006.

Accession Number: 20060221-5059.

Comment Date: 5 p.m. Eastern Time on Tuesday, March 14, 2006.

Docket Numbers: ER05-1236-001.

Applicants: Duke Power.

Description: Duke Power submits this compliance filing to make certain modifications to its independent transmission coordinator plan pursuant to December 19, 2005 order.

Filed Date: February 17, 2006.

Accession Number: 20060223-0049.

Comment Date: 5 p.m. Eastern Time on Friday, March 10, 2006.

Docket Numbers: ER06-190-002.

Applicants: Electric Energy, Inc.

Description: Electric Energy, Inc submits revised Modification No.16 to the Power Contract, which is to be made effective on January 1, 2003.

Filed Date: February 21, 2006.

Accession Number: 20060301-0385.

Comment Date: 5 p.m. Eastern Time on Tuesday, March 14, 2006.

Docket Numbers: ER06-440-001.

Applicants: Electric Energy, Inc.

Description: Electric Energy, Inc submits revised Modification No.17 to the Power Contract, which is to be made effective on January 1, 2006.

Filed Date: February 21, 2006.

Accession Number: 20060301-0386.

Comment Date: 5 p.m. Eastern Time on Tuesday, March 14, 2006.

Docket Numbers: ER06-472-000.

Applicants: LG&E Energy Marketing Inc.

Description: Withdrawal of Filing of LG& E Energy Marketing Inc.

Filed Date: February 21, 2006.

Accession Number: 20060221-5037.

Comment Date: 5 p.m. Eastern Time on Tuesday, March 14, 2006.

Docket Numbers: ER06-511-001.

Applicants: Maine Public Service Company.

Description: Maine Public Service Co. submits revised tariff sheets.

Filed Date: February 17, 2006.

Accession Number: 20060223-0053.

Comment Date: 5 p.m. Eastern Time on Friday, March 10, 2006.

Docket Numbers: ER06-606-001.

Applicants: BlueRock Energy, Inc.

Description: BlueRock Energy, Inc submits an amendment to the petition for acceptance of initial rate schedule, waivers and blanket authority.

Filed Date: February 17, 2006.

Accession Number: 20060223-0052.

Comment Date: 5 p.m. Eastern Time on Friday, March 10, 2006.

Docket Numbers: ER06-653-000.

Applicants: Entergy Nuclear Power Marketing, LLC.

Description: Entergy Nuclear Power Marketing, LLC submits its application for order accepting initial market-based tariff.

Filed Date: February 21, 2006.

Accession Number: 20060223-0158.

Comment Date: 5 p.m. Eastern Time on Tuesday, March 14, 2006.

Docket Numbers: ER06-654-000.

Applicants: Midwest Electric Power, Inc.

Description: Midwest Electric Power, Inc submits a notice of cancellation of a Power Supply Agreement with Ameren Energy Marketing Co.

Filed Date: February 21, 2006.

Accession Number: 20060223-0160.

Comment Date: 5 p.m. Eastern Time on Tuesday, March 14, 2006.

Docket Numbers: ER06-655-000.

Applicants: California Independent System Operator Corporation.

Description: California Independent System Operator Corp submits an informational filing to provide notice regarding the revised Transmission Access Charges effective January 1, 2006.

Filed Date: February 21, 2006.

Accession Number: 20060223-0161.

Comment Date: 5 p.m. Eastern Time on Tuesday, March 14, 2006.

Docket Numbers: ER06-656-000.

Applicants: ISO New England Inc.

Description: ISO New England, Inc submits materials, which identify the monthly installed capacity requirements established by the ISO for the 2006/2007 Power Year.

Filed Date: February 21, 2006.

Accession Number: 20060223-0156.

Comment Date: 5 p.m. Eastern Time on Tuesday, March 14, 2006.

Docket Numbers: ER06-657-000.

Applicants: PJM Interconnection, L.L.C.

Description: PJM Interconnection, LLC submits an executed interconnection service agreement and an executed construction service agreements with Bethlehem Renewable Energy, LLC.

Filed Date: February 21, 2006.

Accession Number: 20060223-0157.

Comment Date: 5 p.m. Eastern Time on Tuesday, March 14, 2006.

Docket Numbers: ER06-663-000.

Applicants: American Electric Power Service Corporation.

Description: American Electric Power Service Corp, as agent for AEP Texas Central Co submits an amendment to the interconnection agreement with Medina Electric Cooperative Inc.

Filed Date: February 21, 2006.

Accession Number: 20060301-0384.

Comment Date: 5 p.m. Eastern Time on Tuesday, March 14, 2006.

Docket Numbers: ER06-669-000.

Applicants: TME Energy Services.

Description: TME Energy Services submits a request for cancellation of FERC Electric Rate Schedule 1 and its power marketer status.

Filed Date: February 23, 2006.

Accession Number: 20060301-0397.

Comment Date: 5 p.m. Eastern Time on Thursday, March 16, 2006.

Docket Numbers: ER06-670-000.

Applicants: Pacific Gas and Electric Company.

Description: Pacific Gas and Electric Co submits its Wholesale Distribution Service Agreement and Interconnection Agreement with McAllister Ranch Irrigation District.

Filed Date: February 23, 2006.

Accession Number: 20060301-0387.

Comment Date: 5 p.m. Eastern Time on Thursday, March 16, 2006.

Docket Numbers: ER06-671-000.

Applicants: Midwest Independent Transmission System Operator, Inc.

Description: Midwest Independent Transmission System Operator Inc submits proposed revisions to Attachment L of its Open Access Transmission and Energy Markets Tariff.

Filed Date: February 23, 2006.

Accession Number: 20060301-0399.

Comment Date: 5 p.m. Eastern Time on Thursday, March 16, 2006.

Docket Numbers: ER06-672-000.

Applicants: PSI Energy, Inc.

Description: PSI Energy Inc submits updated summary schedules for the Transmission and Local Facilities Agreement for the calendar year 2004 pursuant to section 205 of the Federal Power Act.

Filed Date: February 23, 2006.

Accession Number: 20060301-0400.

Comment Date: 5 p.m. Eastern Time on Thursday, March 16, 2006.

Docket Numbers: ER06-673-000.

Applicants: Cleco Power LLC.

Description: Cleco Power LLC submits its Network Integration Service Agreement and Network Operating Agreement with Louisiana Generating, LLC.

Filed Date: February 24, 2006.

Accession Number: 20060301-0378.

Comment Date: 5 p.m. Eastern Time on Friday, March 17, 2006.

Docket Numbers: ER06-674-000.

Applicants: Conectiv Energy Supply, Inc.

Description: Connectiv Energy Supply, Inc submits its Full Requirement Service Agreement requesting authorization to make wholesale power sales to its Delmar Power & Light Co.

Filed Date: February 24, 2006.

Accession Number: 20060301-0501.

Comment Date: 5 p.m. Eastern Time on Friday, March 17, 2006.

Docket Numbers: ER06-675-000.

Applicants: Louisville Gas & Electric Company.

Description: Louisville Gas & Electric Co et al. submits a letter agreement with Eastern Kentucky Power Coop for modifications of its transmission circuit leased to EKPC.

Filed Date: February 24, 2006.

Accession Number: 20060301-0377.

Comment Date: 5 p.m. Eastern Time on Friday, March 17, 2006.

Docket Numbers: ER06-679-000.

Applicants: Louisville Gas and Electric Company.

Description: Louisville Gas and Electric Co et al. submits a letter agreement with Eastern Kentucky Power Cooperative for modifications of facilities to serve its new Cedar Grove Industrial Park Substation.

Filed Date: February 24, 2006.

Accession Number: 20060302-0054.

Comment Date: 5 p.m. Eastern Time on Friday, March 17, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-3459 Filed 3-9-06; 8:45 am]

BILLING CODE 6717-01-P